DEPARTMENT OF THE INTERIOR

National Park Service

[NPS-WASO-NAGPRA-NPS0033208; PPWOCRADN0-PCU00RP14.R50000]

Notice of Intent To Repatriate Cultural Items: Berkshire Museum, Pittsfield, MA

AGENCY: National Park Service, Interior.

ACTION: Notice.

SUMMARY: The Berkshire Museum, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the Berkshire Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Berkshire Museum at the address in this notice by February 9, 2022.

FOR FURTHER INFORMATION CONTACT: Jason Vivori, Berkshire Museum, 39 South Street, Pittsfield, MA 01201, telephone (413) 443-7171 Ext. 341, email jvivori@berkshiremuseum.org.

SUPPLEMENTARY INFORMATION: Notice is here given in accordance with the Native American Graves Protection and Repatriation Act (NAGPRA), 25 U.S.C. 3005, of the intent to repatriate cultural items under the control of the Berkshire Museum, Pittsfield, MA, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the mid-18th century, two cultural items were removed from Whahktukuk in Berkshire County, MA. According to museum documentation, both items were donated to the Berkshire Museum in 1958 by Allen Peck of Pittsfield. According to the donor, both items had been given to Israel Dickinson of Pittsfield (1736-1777), his great-great grandfather, by Sachem John Konkapot of Stockbridge (ca. 1690-1765), a significant leader in the Stockbridge Munsee Community, Wisconsin. The two objects of cultural patrimony are one wampum pouch and one pair of moccasins.

In consultation with the Stockbridge Munsee Community, Wisconsin, the Berkshire Museum has determined that the date and provenience of the cultural items reasonably accord with the lives of both John Konkapot and Israel Dickinson. Consequently, the information in the possession of the Berkshire Museum shows that Sachem Konkapot was the caretaker of the pouch and moccasins prior to the donor's great-great grandfather, Israel Dickinson, coming into possession of them.

The wampum pouch has ongoing historical, traditional, or cultural importance central to the Native American group or culture itself, rather than property owned by an individual, and cannot be alienated, appropriated, or conveyed by an individual regardless of whether or not the individual is a member of the Indian Tribe. Written histories establish the wampum pouch as a continuing culturally significant artifact since at least the eighteenth century. In Stockbridge Past and Present, or, Records of an Old Mission Station, Hendrick Aupaumut, a well-known 18th century Stockbridge Mohican historian and diplomat wrote, “The Sachem is allowed to keep Mno-ti, or peaceable bag, or bag of peace. . . In this bag they keep various Squau-tho-won, or belts of wampum: Also strings; which belts and strings they used to establish peace and friendship with different nations, and to use them on many occasions, and passed as coin. In this bag they keep all belts and strings which they received of their allies of different nations.” Aupaumut added, “Another, and important use of the Wampum was its substitution in the place of writing. The red bead signified blood, the black or dark colors had a severe meaning, while white denoted peace. Then ideas could be conveyed by various figures into which It was wrought, a red hatchet, for instance, readily suggesting the idea of war. Thus, not only the fact that a treaty had been made, but its terms could be kept in mind, and the various circumstances in the history of a nation could be recorded.” Accordingly, the wampum pouch is hereditary to the office of the Sachem, allowing the Stockbridge Munsee Community, Wisconsin to establish treaties with other nations serving as a literal container of history and oral tradition.

The pair of moccasins also satisfy NAGPRA's definition of cultural patrimony. They are significant for having belonged to Stockbridge-Munsee Sachem John Konkapot.

Determinations Made by the Berkshire Museum

Officials of the Berkshire Museum have determined that:

• Pursuant to 25 U.S.C. 3001(3)(D), the two cultural items described above have ongoing historical, traditional, or cultural importance central to the Native American group or culture itself, rather than property owned by an individual.

• Pursuant to 25 U.S.C. 3001(2), there is a relationship of shared group identity that can be reasonably traced between the cultural patrimony and the Stockbridge Munsee Community, Wisconsin.

Additional Requestors and Disposition

Lineal descendants or representatives of any Indian Tribe or Native Hawaiian organization not identified in this notice that wish to claim these cultural items should submit a written request with information in support of the claim to Jason Vivori, Berkshire Museum, 39 South Street, Pittsfield, MA 01201, telephone (413) 443-7171 Ext. 341, email jvivori@berkshiremuseum.org, by February 9, 2022. After that date, if no additional claimants have come forward, transfer of control of the objects of cultural patrimony to the Stockbridge Munsee Community, Wisconsin may proceed.

The Berkshire Museum is responsible for notifying the Stockbridge Munsee Community, Wisconsin that this notice has been published.

Dated: January 3, 2022.
Melanie O'Brien,
Manager, National NAGPRA Program.

[FR Doc. 2022-00227 Filed 1-7-22; 8:45 am]

BILLING CODE 4312-52-P